DEPARTMENT OF COMMERCE

National Oceanic and Atmospheric Administration

[I.D. 080906C]

Pacific States Marine Fisheries Commission (PSMFC); Pacific Fishery Management Council; Public Workshop

AGENCY: National Marine Fisheries Service (NMFS), National Oceanic and Atmospheric Administration (NOAA), Commerce.

ACTION: Notice of a public workshop.

SUMMARY: The Pacific States Marine Fisheries Commission, the PSMFC Recreational Fisheries Information Network (RecFIN) Technical Committee, and the Pacific Fishery Management Council (Council) are hosting a workshop on the RecFIN data system which is open to the public.

DATES: The RecFIN workshop will begin at 1:15 p.m., Monday, August 28, 2006. The workshop will continue through Thursday, August 31, 2006 beginning at 8:30 a.m. every morning. The meetings will end at 5 p.m. each day, or as necessary to complete business.

ADDRESSES: The RecFIN workshop will be held at the Marriott Residence Inn, Downtown at River Place, 2115 SW River Parkway, Portland, OR 97201; telephone: (503) 552-9500.

Council address: Pacific Fishery Management Council, 7700 NE Ambassador Place, Suite 101, Portland, OR 97220-1384.

FOR FURTHER INFORMATION CONTACT: Mr. Russell Porter, PSMFC; telephone: (503) 595-3100; or Mr. John DeVore, Pacific Fishery Management Council; telephone: (503) 820-2280.

SUPPLEMENTARY INFORMATION: The purpose of the RecFIN workshop is for members of the various RecFIN Committees, Council Management/Technical Team representatives, Council Advisory Panel representatives, Council Scientific and Statistical Committee representatives, NOAA Fisheries and other agency stock assessment biologists, and the general public to discuss improvements to the RecFIN data system to best aid fishery managers, assessment scientists, and other users of the RecFIN data system. The workshop participant's role will be development of recommendations and reports for consideration by the Council and PSMFC at future meetings.

Although non-emergency issues not contained in the workshop agenda may come before the RecFIN workshop participants for discussion, those issues may not be the subject of formal workshop action during this meeting. RecFIN workshop action will be restricted to those issues specifically listed in this notice and any issues arising after publication of this notice that require emergency action under Section 305(c) of the Magnuson-Stevens Fishery Conservation and Management Act, provided the public has been notified of the RecFIN workshop participants' intent to take final action to address the emergency.

Special Accommodations

This meeting is physically accessible to people with disabilities. Requests for sign language interpretation or other auxiliary aids should be directed to Ms. Carolyn Porter at (503) 820-2280 at least 5 days prior to the meeting date.

Dated: August 9, 2006.
Tracey L. Thompson,
Acting Director, Office of Sustainable Fisheries, National Marine Fisheries Service.

[FR Doc. E6-13278 Filed 8-11-06; 8:45 am]

BILLING CODE 3510-22-S